DEPARTMENT OF COMMERCE

Submission for OMB Review; Comment Request

The Department of Commerce will submit to the Office of Management and Budget (OMB) for clearance the following proposal for collection of information under the emergency provisions of the Paperwork Reduction Act (44 U.S.C. chapter 35).

Agency: Minority Business Development Agency (MBDA).

Title: Minority Business Center Program: Communication and Outreach.

OMB Control Number: None.

Form Number(s): None.

Type of Request: Emergency submission (new information collection).

Number of Respondents: 775 (25 interviews and 750 on-line surveys).

Average Hours per Response: Interview, 45 minutes; on-line survey, 15 minutes.

Burden Hours: 207.

Needs and Uses: This emergency review request will give authorization to MBDA to conduct two surveys (telephone interviews and on-line) of its clients, stakeholders, and the public to ascertain their views, perceptions, and opinions of MBDA's logo, programs, and collateral materials. The collected information will be used to revise/update its collateral materials, outreach strategies and program services in a manner that effectively matches the interests and needs of its core constituency and outreach strategies.

On April 1, 2011, MBDA will announce the recipients of its most recent grant competition. The recipients of the MBDA grant will operate a minority business center and will provide direct service to minority business owners. Approval of this request will make it possible for MBDA to use the findings from the collected information to make decisions about the collateral materials used for informing clients, stakeholders and the public about MBDA's programs, as well as to assist in developing more effective outreach strategies and business programming for the centers' openings.

Affected Public: Business or other for-profit organizations.

Frequency: One-time only.

Respondent's Obligation: Voluntary.

OMB Desk Officer: Nicholas Fraser, (202) 395-5887.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent by January 25, 2011 to Nicholas Fraser, OMB Desk Officer, FAX number (202) 395-5806 or via the Internet at Nicholas_A._Fraser@omb.eop.gov.

Dated: January 18, 2011.
Gwellnar Banks,
Management Analyst, Office of the Chief Information Officer.

[FR Doc. 2011-1271 Filed 1-20-11; 8:45 am]

BILLING CODE 3510-21-P